DEPARTMENT OF DEFENSE

Department of the Air Force

[Docket ID: USAF-2013-0030]

Proposed Collection; Comment Request

AGENCY: Air Force Chief of Chaplains Office (DOD/USAF/HQ AF/HC), Department of the Air Force, Department of Defense.

ACTION: Notice.

In compliance with Section 3506(c)(2)(A) of the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 9, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Chaplain Corps Accounting Center, 266 F Street, Suite 2, JBSA Randolph, TX 78150-4583, email gary.gilliam.1@us.af.mil or call (210) 652-5122 option 9.

Title; Associated Form; and OMB Number: AF Form 4356, Chapel Tithes and Offering Fund (CTOF) Purchase Request, AF Form 4357, Chapel Tithes and Offering Fund (CTOF) Monthly Statement of Contract Services, and AF Form 4360, Chapel Tithes And Offering Fund (CTOF) Electronic Funds Transfer EFT, OMB Control Number 0701-TBD.

Needs and Uses: The use of the AF Forms enables the request of advance funds for purchase of supplies for chapel projects, or for the payment of contract payments to Non-personnel Service Contracts between the local base chapel and each individual contractor. Air Force Instruction 52-105V2 requires that contract payments only be accomplished by EFT, the 4360 Form gives CCAC the information needed to pay by EFT.

Affected Public: Individuals or Households.

Annual Burden Hours: 6,250 hours.

Number of Respondents: 5,000.

Responses per Respondent: 5.

Average Burden per Response: 15 minutes.

Frequency: Annually.

SUPPLEMENTARY INFORMATION:

Summary of Information Collection

The Chaplain Corps Accounting Center (CCAC) requires the forms to be completed and submitted, to have all the information needed to process fund requests and payments. The calculation of average burden per response uses fifteen minutes as an average time for each form. The only members of the public that are affected are those who require funds from the CCAC.

Dated: July 3, 2013.
Aaron Siegel,
Alternate OSD Federal Register Liaison Officer, Department of Defense.

[FR Doc. 2013-16440 Filed 7-8-13; 8:45 am]

BILLING CODE 5001-06-P